ENVIRONMENTAL PROTECTION AGENCY

[FRL-8444-5]

Agency Information Collection Activities OMB Responses

AGENCY: Environmental Protection Agency (EPA).

ACTION: Notice.

SUMMARY: This document announces the Office of Management and Budget's (OMB) responses to Agency Clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Susan Auby (202) 566-1672, or e-mail at auby.susan@epa.gov and please refer to the appropriate EPA Information Collection Request (ICR) Number.

SUPPLEMENTARY INFORMATION:

OMB Responses to Agency Clearance Requests

OMB Approvals

EPA ICR No. 1666.07; NESHAP for Commercial Ethylene Oxide Sterilization and Fumigation Operations (Renewal); in 40 CFR part 63, subpart O; was approved 07/03/2007; OMB Number 2060-0283; expires 07/31/2010

EPA ICR No. 2226.02; Revisions to Standards of Performance for New Stationary Sources and National Emission Standards for Hazardous Air Pollutants, and NESHAP for Source Categories (Final Rule); was approved 07/02/2007; OMB Number 2060-0599; expires 06/30/2010

EPA ICR No. 1783.04; NESHAP for Flexible Polyurethane Foam Product (Renewal); in 40 CFR part 63, subpart III; was approved 06/22/2007; OMB Number 2060-0357; expires 06/30/2010

EPA ICR No. 1652.06; NESHAP for Halogenated Solvent Cleaners/Halogenated Hazardous Air Pollutants (Renewal); in 40 CFR part 63, subpart T; was approved 06/14/2007; OMB Number 2060-0273; expires 06/30/2010

EPA ICR No. 1064.15; NSPS for Automobile and Light Duty Truck Surface Coating Operations (Renewal); in 40 CFR part 60, subpart MM; was approved 06/14/2007; OMB Number 2060-0034; expires 06/30/2010

EPA ICR No. 2115.02; NESHAP for Miscellaneous Coating Manufacturing (Renewal); in 40 CFR part 63, subpart HHHHH; was approved 06/14/2007; OMB Number 2060-0535 expires 06/30/2010

EPA ICR No. 1963.03; NESHAP for Organic Liquids Distribution (Non-Gasoline) Facilities (Renewal); in 40 CFR part 63, subpart EEEE; was approved 07/11/2007; OMB Number 2060-0539; expires 07/31/2010

EPA ICR No. 2236.02; 8-Hour Ozone National Ambient Air Quality Standard Implementation Rule (Renewal); was approved 07/11/2007; OMB Number 2060-0594; expires 07/31/2010

EPA ICR No. 1780.04; Voluntary Cover Sheet for TSCA Submissions (Renewal); was approved 07/11/2007; OMB Number 2070-0156; expires 07/31/2010

EPA ICR No. 1869.05; National Emission Standard for Hazardous Air Pollutants: Manufacture of Amino/Phenolic Resins (Renewal); in 40 CFR part 63, subpart OOO; was approved 07/11/2007; OMB Number 2060-0434; expires 07/31/2010

EPA ICR No. 2215.01; Valuing Reduced Asthma Episodes for Adults and Children—Focus Groups; was approved 07/16/2007; OMB Number 2010-0041; expires 12/31/2008

Comment Filed

EPA ICR No. 2256.01; NESHAP for Acrylic/Modacrylic Fibers Production, Carbon Black Production, Chemical Mfg: Chromium Compounds, Flexible Polyurethane Foam Production/Fabrication, Lead Acid Battery Mfg, Wood Preserving (Proposed Rule); OMB filed comment on 06/25/2007

Dated: July 17, 2007.
Sara Hisel-McCoy,
Acting Director, Collection Strategies Division.

[FR Doc. E7-14260 Filed 7-23-07; 8:45 am]

BILLING CODE 6560-50-P